DEPARTMENT OF HEALTH AND HUMAN SERVICES

National Institutes of Health

Proposed Collection; Comment Request; The Framingham Study

SUMMARY: In compliance with the requirement of section 3506(c)(2)(A) of the Paperwork Reduction Act of 1995, for opportunity for public comment on proposed data collection projects, the National Heart, Lung, and Blood Institute (NHLBI), the National Institutes of Health (NIH) will publish periodic summaries of proposed projects to be submitted to the Office of Management and Budget (OMB) for review and approval.

Proposed Collection: Title: The Framingham Study. Type of Information Request: Revision (OMB No. 0925-0216). Need and Use of Information Collection: The Framingham Study will conduct examinations and morbidity and mortality follow-up in original, offspring, and third generation participants for the purpose of studying the determinants of cardiovascular disease. Frequency of response: The participants will be contacted annually. Affected public: Individuals or households; businesses or other for profit; small businesses or organizations. Types of Respondents: Adult men and women; doctors and staff of hospitals and nursing homes. The annual reporting burden is as follows: Estimated Number of Respondents: 6,000 and Estimated Total Annual Burden Hours Requested: 9,900.

There are no capital, operating, or maintenance costs to report.

Type of respondents | Estimated number of respondents | Average burden hours per respondent | Estimated total annual burden hours requested
Participants | 3,600 | 2.5 | 9,000
Physician, hospital, nursing home staff | 1,200 | 0.67 | 804
Participant's next of kin | 1,200 | .08 | 96
Total | 6,000 |  | 9,900

Request for Comments: Written comments and/or suggestions from the public and affected agencies are invited on one or more of the following points: (1) Whether the proposed collection of information will have practical utility; (2) The accuracy of the agency's estimate of burden of the proposed collection of information, including the validity of the methodology and assumptions used; (3) Ways to enhance the quality, utility, and clarity of the information to be collected; and (4) Ways to minimize the burden of collection of information on those who are to respond, including the use of appropriate automated, electronic, mechanical, or other technological collection techniques or other forms of information technology.

FOR FURTHER INFORMATION CONTACT: To request more information on the proposed project or to obtain a copy of data collection plans and instruments, contact Dr. Paul Sorlie, Division of Prevention and Population Sciences, NHLBI, NIH, II Rockledge Center, 6701 Rockledge Drive, MSC # 7936, Bethesda, MD, 20892-7936, or call non-toll-free number (301) 435-0456, or e-mail your request, including your address to: sorliep@nhlbi.nih.gov.

Comments Due Date: Comments regarding this information collection are best assured of having their full effect if received within 60 days of the date of this publication.

Dated: October 22, 2007.
Mike Lauer,
Director, Division of Prevention and Population Sciences, NHLBI, National Institutes of Health.
Suzanne Freeman,
OMB Clearance Officer, NHLBI, National Institutes of Health.

[FR Doc. E7-21705 Filed 11-5-07; 8:45 am]

BILLING CODE 4140-01-P